SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before October 2, 2023.

ADDRESSES: Send all comments to, Scott Reynders-Byars, and OFFICE, Small Business Administration.

FOR FURTHER INFORMATION CONTACT: Scott Reynders-Byars, scott.reynders-byars@sba.gov; 817-438-1812 Curtis B. Rich, Agency Clearance Officer curtis.rich@sba.gov 202-205-7030.

SUPPLEMENTARY INFORMATION: The Small Business Administration's Covid EIDL Servicing Center Borrower Request Forms provide the borrower with easily completed fillable forms that can be emailed or mailed to SBA's Covid EIDL Servicing Center. Covid EIDL borrowers will use these forms to request servicing actions such as seeking financial assistance in the form of a subordination, deferment, re-amortization, accommodation, change in ownership, change in collateral, or relocation of their business. The information collected helps the Agency to make eligibility assessments and approvals for servicing actions. It also provides the borrower a road map to follow when requesting a modification of their loan.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA NUMBER: 3245-

(1) Title: Covid EIDL Servicing Center Borrower Request Forms.

Description of Respondents: Respondents would be the businesses who applied for, approved and received COVID Economic Injury Loans (EIDL) from the Small Business Administration between January 31, 2020, and May 16, 2023. Businesses eligible to apply were Sole Proprietorships, Limited Liability Partnerships, Partnerships, Limited Liability Companies and Corporations.

Form Number: N/A.

Total Estimated Annual Responses: The newly formed Covid EIDL Servicing Center (CESC) currently has an active and current loan portfolio of 2,586,163. As a newly formed servicing office we do not have historical data to base this estimate. We have submitted our estimates using historical data from the Small Business Administration Office of Capital Access, Office of Disaster Assistance Servicing Offices which estimates we will perform actions on approximately 35% of our active portfolio per year or 905,157 estimated responses per year.

Total Estimated Annual Hour Burden: The CESC estimates the forms will take an average of 30 minutes per document to complete. 30 minutes times 905,157 the total estimated annual hour burden of 425,578 hours per year.

Curtis B. Rich,
Agency Clearance Officer.

[FR Doc. 2023-16368 Filed 8-1-23; 8:45 am]

BILLING CODE 8026-09-P